DEPARTMENT OF TRANSPORTATION

Federal Aviation Administration

Notice of Intent To Request Renewal From the Office of Management and Budget (OMB) of Six Current Public Collections of Information

AGENCY: Federal Aviation Administration (FAA), DOT.

ACTION: Notice.

SUMMARY: In compliance with the Paperwork Reduction Act (44 U.S.C. 3501 et seq.), the FAA invites public comment on six currently approved pubic information collections which will be submitted to OMB for renewal.

DATES: Comments must be received on or before October 10, 2003.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2120-0021: Certification, Pilots and Flight Instructors. 14 CFR 61 prescribes certification requirements for pilots, flight instructors, and ground instructors. The information collected is used to determine the applicant's compliance with the certification requirements and eligibility. The current estimated annual reporting burden is 252,100 hours.

2. 2120-0036: Notice of Landing Area Proposal. 14 CFR part 157 requires that each person who intends to construct, activate, deactivate, or change the status of an airport, runway, or taxiway, must notify the FAA. The collected information is used to determine the effect the proposed action would have on existing airports and on the safe and efficient use of the airspace, the traffic patterns of other airports, the existing airport structure and projected FAA programs. The current estimated annual reporting burden is 2,901 hours.

3. 2120-0085: Certification and Operations: Federal Aviation Regulations part 125. Part A of Subtitle VII of the Revised Title 49 U.S.C., authorizes the issuance of regulations governing the use of navigable airspace. 14 CFR part 125 prescribes requirements for leased aircraft, Aviation Service Firms, and Air Travel Clubs. The information collected by the agency is used to determine the applicant's eligibility for certification in these areas. The current estimated annual reporting burden is 29,445 hours.

4. 2120-0607: Pilot Records Improvement Act of 1996. Title 49 U.S.C. 44936(f) mandates that airlines obtain safety records of prospective employees from the Federal Aviation Administration and from previous employers. The information collected is used to determine the eligibility of applicants for employment. The current estimated annual reporting burden is 101,708 hours.

5. 2120-0620: Special Federal Aviation Regulation No. 71. Special Federal Aviation Regulation (SFAR) No. 71 applies to air tour operators in Hawaii. SFAR requires that parts 121 and 135 air tour operators verbally brief their passengers on safety, particularly related to overwater operations before each air tour flight. The current estimated annual reporting burden is 6,667 hours.

6. 2120-0666: Noise Levels for U.S. Certified and Foreign Aircraft; Estimated Airplane Noise Levels in A-Weighted Decibels. The FAA published Advisory Circular (AC) 36-1G, “Noise Levels for U.S. Certificated and Foreign Aircraft” in August 1997, and AC36-3G, “Estimated Airplane Noise Levels in A-Weighted Decibels” in April 1996. AC36-1G contains a list of aircraft noise certification levels. AC36-3G contains a list of estimated airplane noise levels in A-weighted decibels (dBA). The FAA collects data from aircraft manufacturers (or modifiers) to verify or supplement data that resides within the FAA for use in updating and publishing the two ACs. The current estimated annual reporting burden is 875 hours.

Issued in Washington, DC, on July 31, 2003.
Judith D. Street,
FAA Information Collection Clearance Officer, APF-100.

[FR Doc. 03-20413 Filed 8-8-03; 8:45 am]

BILLING CODE 4910-13-M